DEPARTMENT OF COMMERCE

National Oceanic and Atmospheric Administration

RIN 0648-XW76

New England Fishery Management Council; Public Meeting

AGENCY: National Marine Fisheries Service (NMFS), National Oceanic and Atmospheric Administration (NOAA), Commerce.

ACTION: Notice; public meeting.

SUMMARY: The New England Fishery Management Council's (Council) VMS/Enforcement Committee will meet to consider actions affecting New England fisheries in the exclusive economic zone (EEZ).

DATES: The meeting will be held on Monday, June 21, 2010 at 9:30 a.m.

ADDRESSES:

Meeting address: The meeting will be held at the Eastland Park Hotel, 157 High Street, Portland, ME 04101; Telephone:(207) 775-5411; Fax:(207) 775-1066.

Council address: New England Fishery Management Council, 50 Water Street, Mill 2, Newburyport, MA 01950.

FOR FURTHER INFORMATION CONTACT: Paul J. Howard, Executive Director, New England Fishery Management Council; telephone: (978)465-0492.

SUPPLEMENTARY INFORMATION: The items of discussion in the committee's agenda are as follows:

(1) Enforcement of sectors; how to improve dockside monitoring; one landing per calendar day vs. 24 hours; discuss including two state enforcement people on the committee; marking of fixed fishing gear regulations and also discuss possibly reviewing and eliminating unnecessary or duplicative regulations.

(2) Other business

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Paul J. Howard (see ADDRESSES) at least 5 days prior to the meeting date.

Authority: 16 U.S.C. 1801 et seq.

Dated: May 28, 2010
Tracey L. Thompson,
Acting Director, Office of Sustainable Fisheries, National Marine Fisheries Service.

[FR Doc. 2010-13342 Filed 6-2-10; 8:45 am]

BILLING CODE 3510-22-S